DEPARTMENT OF AGRICULTURE

Forest Service

Pink Stone Fire Recovery; Kootenai National Forest, Lincoln County, MT

AGENCY: Forest Service USDA.

ACTION: Notice of intent to prepare an environmental impact statement.

SUMMARY: In August, 2000, two lightning-caused wildfires burned about 16,100 acres in the Pinkham and Sutton Creek drainages between 7 and 14 miles southwest of Eureka, Montana. The fires threatened private property and resulted in significant tree mortality and increased future fuel levels. Increases in spring-time peak water flows in a few streams are expected to approach maximum levels allowed by the Kootenai Forest Plan as a result of vegetation loss. The USDA Forest Service will prepare an Environmental Impact Statement (EIS) for the Pink Stone Fire Recovery Decision Area, which encompasses the two fire areas. The EIS will disclose the effects of fire recovery opportunities designed to meet the Purpose and Need for taking action, which is to (1) reduce existing and future fuel accumulations, the corresponding risk of reburn, and the risk to private property; (2) recover the economic value of fire-killed timber; (3) restore vegetative species diversity appropriate to the sites; and (4) restore affected watersheds to properly functioning conditions.

Fuel reduction and economic opportunities would be accomplished through salvage harvest of fire-killed timber and jackpot burning of harvest-created slash. Vegetation and watershed restoration opportunities would be accomplished through hand planting and natural regeneration in harvested, riparian and burned areas, and improving water drainage systems through road, ditch and culvert improvements. Additional fire recovery opportunities proposed include visual quality improvements using unit shapes and sizes designed to imitate patterns created by the fires, improvements to fire-affected trails, and provisions for adequate snag and coarse woody debris following recovery treatments.

The Proposed Action would reduce existing and future fuels and recover the economic value of burned timber on about 4,003 acres of land burned during the fires, producing about 89,488 hundred cubic feet (CCF), or 36.7 million board feet (MMBF), of forest product. Treatment types include about 1,663 acres of regeneration harvest, 1,522 acres of shelterwood harvest, 464 acres of seed tree harvest, and 354 acres of commercial thinning using tractor, cable and forwarded harvest systems. Jackpot burning would be used to reduce residual fuels. Watershed recovery actions would include about 315 acres of riparian planting, about 2,791 acres of hand planting in addition to expected natural regeneration, and roadside drainage improvements on approximately 76 miles of forest roads. Visual quality improvements involve unit size, shapes and treatments that imitate fire patterns and decrease the visual effect of previous unit edges and fire-killed trees. Fire-created trail hazards on three trials would be removed.

The Proposed Action would require Kootenai National Forest Plan project-specific exceptions to harvest in big game movement corridors and to temporarily exceed open road density standards in Management Area 12 (Big Game Summer Range with Timber Management). The Proposed Action would also create openings over 40 acres, which is allowable under catastrophic conditions such as large wildfires.

The proposed activities are considered together because they represent either connected or cumulative actions as defined by the Council on Environmental Quality (40 CFR 1508.23).

The EIS will tier to the Kootenai National Forest Land and Resource Management Plan, as amended, and the Final Environmental Impact Statement (FEIS), and Record of Decision (ROD) of September 1987, which provides overall guidance for forest management of the area.

DATES: Written comments and suggestions should be received on or before February 16, 2001.

ADDRESSES: The Responsible Official is Bob Castaneda, the Kootenai National Forest Supervisor, 1101 U.S. Highway 2 West, Libby, MT 59923. Written comments and suggestions concerning the scope of the analysis should be sent to Glen M. McNitt, District Ranger, Rexford Ranger District, 1299 U.S. Highway 93 N, Eureka, MT 59917.

FOR FURTHER INFORMATION CONTACT: Ron Komac, Acting NEPA Coordinator, Rexford Ranger District, Phone: (406) 296-2536.

SUPPLEMENTARY INFORMATION: The Decision Area is located on the Rexford Ranger District of the Kootenai National Forest in northwest Montana. Two fire areas, the Stone Hill Fire (10,960 acres) and the Lydia Fire (5,434 acres) make up the almost 16,200-acre Decision Area. All but some high-elevation ridgetops have favorable climate and good site conditions for forest vegetation. Proposed activities within the Decision Area include all or portions of T34-35N; R27-29W.

Average annual precipitation ranges from 14 to 100 inches. At higher elevations, most precipitation falls as snow. The Decision Area contains a combination of open-grown ponderosa pine and Douglas-fir in the lower elevations adjacent to Lake Koocanusa in the Store Hill fire area; upland areas in both fires that contain multistoried western larch/Douglas-fir intermixed with lodgepole pine; and mid to high to elevation areas in both fires that produce Englemann spruce, subalpine fir and lodgepole pine stands.

Some of the Stone Hill portion of the Decision Area is highly visible from a designated Scenic Byway (State Highway 37 and Forest Development Road #228) and from the Webb Mountain rental lookout.

The Kootenai National Forest Land and Resource Management Plan provides overall management objectives in individual delineated management areas (MAs). Almost all of the proposed fire recovery activities occur in MA 12 and 15. Briefly described, MA 12 is managed to maintain or enhance the summer range habitat effectiveness for big game species and produce a programmed yield of timber. MA 15 focuses upon timber production using various silvicultural practices while providing for other resource values. Planting disease-resistant white-bark in suitable habitat and removing trail hazards along three trails are recovery activities proposed in MA 2 (non-motorized recreation, no timber harvest).

Purpose and Need

The Purpose and Need for taking action in the Decision Area is to (1) reduce existing and future fuel accumulations, the corresponding risk of reburn, and the risk to private property by removing dead and dying trees and jackpot burning residual fuels; (2) recover the economic value of fire-killed timber by harvesting merchantable trees; (3) restore vegetative species diversity by hand planting a variety of species appropriate to the sites in addition to natural regeneration; and (4) restore affected watersheds to properly functioning conditions by providing short- and long-term large woody debris recruitment, improving road-related drainage problems, and reducing the risk of additional watershed impacts from future reburns.

Proposed Activities

The Forest Service proposes to reduce existing and accumulating fuels and recover the economic value of burned timber on about 4,003 acres of fire-affected forest lands. About 1,663 acres of regeneration harvest would occur, where all trees would be harvested except about 5 moderately sized reserve trees. About 464 acres of seed tree harvest would occur, where 5-20 reserve trees would be retained to provide a seed source for natural regeneration. About 1,522 acres would be treated with a shelterwood harvest, where about 20-50 reserve trees per acre would be retained. Commercial thinning would occur on about 354 acres, with 30-100 trees per acre remaining. These treatments would recover an expected 89,488 CCF (36.7 MMBF) of commercial forest product from the fire-effected areas. A tractor harvest system would be used on about 1,270 acres where access and slope were favorable. On about 98 acres a cable system would be used, mostly due to steep slopes. A forwarded harvest system would be used on about 471 acres due to long skidding distances, steep slopes and soil concerns. Approximately 0.4 miles of temporary road would be needed to access one unit to be harvested with ground-based systems. This temporary road would be removed from the landscape after harvest activities were accomplished. No underburning is proposed due to the effects of the fires, however, residual fuels after the fires and harvest-generated fuels would be piled and burned as necessary (referred to as jackpot burning). Restoring vegetation as soon as possible would be supported by about 2,791 acres of hand planting western larch, western white pine and ponderosa pine in addition to expected natural regeneration. Selected sites over about 650 acres of high elevation land would be planted with disease-resistant white-barked pine. In addition to reforestation, watershed recovery actions would include providing species diversity and future large woody debris recruitment by planting aspen, black cottonwood, western redcedar, Englemann spruce and western hemlock up to 100 feet on both sides of about 13 mines of streams, or about 315 acres of riparian habitat; improving inadequate road-related drainage by upgrading roads to current Best Management Practices, increasing the size of stream crossing culverts, and improving road drainage; and reducing fuels in order to reduce the risk of additional impacts to watersheds from a future reburn. Visual quality improvements involve unit size, shapes and treatments that imitate fire patterns and decrease the visual effect of previous unit edges and fire-killed trees. Fire-created hazards on portions of three trails totaling about 7 miles would be removed.

The proposed activities were focused in high fire severity areas where large openings were created or will eventually be created by the fires. The Proposed Action contains 32 units that would exceed 40 acres and create immediate openings, ranging from 45 to 246 acres. Many are adjacent to other pre-fire openings or other Proposed Action units, and cumulatively with fire-affected stands could eventually result in very large openings exceeding 1,000 acres or more.

The proposal also includes 1.1 mile of permanent road construction, 0.4 miles of temporary road construction, and approximately 67 miles of reconstruction to meet Best Management Practices requirements. The temporary road would be obliterated following management actions.

Implementation of this proposal would require opening several miles of road currently restricted to public access. Depending on sale scheduling, some roads may be open to the public during activities. Restrictions for motorized access would be restored following the conclusion of the management activities.

Forest Plan Amendments

The proposed action includes several project-specific forest plan amendments and a programmatic amendment to meet the goals of the Kootenai National Forest Plan:

A project-specific amendment to MA 12 Wildlife and Fish Standard #7 and Timber Standard #2 would be needed to allow harvest adjacent to existing openings in big game movement corridors in MA 12. The wildfires burned around some pre-fire openings, removing cover in corridors and creating larger openings. The Proposed Action would remove much of the burned material that previously provided corridor cover. Surviving live trees and some snags and down woody material would be left to provide wildlife habitat and maintain soil productivity. In the larger openings, patches and corridors would be left to provide some level of security for big game movement through the fire areas.

A project-specific amendment to allow MA 12 open road densities would be needed to temporarily exceed the MA 12 Facilities Standard #3 of 1.15 miles/square mile (as previously amended by the Pinkham Timber Sale and Associated Activities Record of Decision, 1999). In order to recover forest products in a timely manner, several roads may be opened at the same time which would increase open road densities above the current standard. Open road densities would return to existing MA standards following activities.

Range of Alternatives

The Forest Service will consider a range of alternatives to the Proposed Action. One of these will be a “no action” alternative, in which none of the proposed activities would be implemented. Additional alternatives will be considered to achieve the project's purpose and need for action and to respond to specific resource issues and public concerns.

Preliminary Issues

Several issues of concern have been identified. These are briefly described below:

Future fire risk: The Lydia and Stone Hill fires killed many trees over large areas. Over the next 20 years most of these dead trees will fall over, creating high fuel levels. Reburns are anticipated with this kind of fuel load in intensities higher than what would normally be expected. In the aftermath of threats to private property this summer, public comments expressed concern over fuel loads and the potential for fires to again threaten private land ownership. There are also internal concerns that such a reburn would cause more severe effects to soils, watershed resources, vegetation and specialized habitat such as old-growth, snags and coarse woody debris.

Timber supply: Many preliminary public comments expressed concern that the value of burned timber will be lost if nothing is done to recover the area. Additional comments have voiced concern over the time frame proposed for addressing fire recovery, and expressed the urgency to recover the economic value of affected trees in a timely manner.

Water quality: Streams in or downstream of the fire areas have been impacted by past management and large wildfires. Several streams are nearing maximum allowable peak flow levels. Although the Proposed Action is expected to have long-term benefits, there are concerns that cumulative effects of past harvest, the fires and the Proposed Action may have short-term negative impacts to some watersheds.

Lynx habitat: Both fire areas impacted suitable habitat for Canada lynx. Coarse woody debris is an important component of denning habitat, and if a reburn does not occur, the fire areas are expected to produce denning and foraging habitat in about 15 years. Some comments expressed concern that post-fire recovery of timber products would reduce or remove important denning habitat.

Visual recovery: The Stone Hill fire is highly visible from a designated Scenic Byway and several scenic viewpoints. Preliminary comments have expressed concern over the visual appearance of burned landscapes, including blackened bark, red needles and large areas of dead and dying trees. Other comments expressed concern about the potential for management activities to create sharp lines or unnatural patterns and decrease visual quality.

Permanent road construction: The Lydia fire burned through a large area which currently has no suitable road access. About 1.1 mile of permanent road construction is proposed to provide reasonable access to the proposed treatment areas. There is a public concern that the Forest Service does not have enough funding to justify building a permanent road and maintaining it through time.

Decisions To Be Made

The Kootenai Forest Supervisor will decide the following:

• Whether or not to reduce existing and expected fuels create by the fires in order to reduce the risk of a reburn, and if so, identify the selection and site-specific location of such actions, and the fuel treatments necessary to reduce those fuels.

• Whether or not to recover the economic value of burned trees in a timely manner, and if so, identify the selection, site-specific location and timing of such actions, and appropriate timber management practices (silvicultural prescription, logging system, fuels treatment, and reforestation), road construction/reconstruction necessary to provide access, and appropriate mitigation measures.

• Whether or not hand planting should be used to supplement natural regeneration and increase diversity in burned, harvested and riparian areas, and if so, identify the selection and site-specific locations of such actions, and the appropriate species and reforestation methods needed.

• Whether or not short-term impacts to watersheds should be allowed in order to improve long-term watershed conditions.

• Whether or not watershed recovery activities (large woody debris recruitment provisions, improved road drainages, reduced risk of reburn) to improve long-term conditions should be implemented, and if so, identify the selection and site-specific locations of such actions.

• Whether or not project-specific Forest Plan exceptions are necessary to meet the specific purpose and need of this project, and whether those exceptions are significant under NFMA.

• What, if any, specific-project monitoring requirements would be needed to assure mitigation measures are implemented and effective.

Public Involvement and Scoping

In November, 2000 preliminary efforts were made to involve the public in considering management opportunities within the Pink Stone Fire Recovery Decision Area. Comments received prior to this notice will be included in the documentation for the EIS. The public is encouraged to take part in the process and is encouraged to visit with Forest Service officials at any time during the analysis and prior to the decision. The Forest Service will be seeking information, comments, and assistance from Federal, State, and local agencies, Indian tribes, individuals, and organizations who may be interested in, or affected by, the Proposed Action. The input will be used in preparation of the draft and final EIS.

The scoping process will assist in identifying potential issues, identifying major issues to be analyzed in depth, identifying alternatives to the proposed action, and identifying potential environmental effects of this project and alternatives (i.e., direct, indirect, and cumulative effects and connected actions).

Estimated Dates for Filing

While public participation in this analysis is welcome at any time, comments received within 30 days of the publication of this notice will be especially useful in the preparation of the Draft EIS. The Draft EIS is expected to be filed with the Environmental Protection Agency (EPA) and to be available for public review by April, 2001. At that time EPA will publish a Notice of Availability of the draft EIS in the Federal Register. The comment period on the draft EIS will be 45 days from the date the EPA publishes the Notice of Availability in the Federal Register.

The final EIS is scheduled to be completed by September, 2001. In the final EIS, the Forest Service is required to respond to comments and responses received during the comment period that pertain to the environmental consequences discussed in the draft EIS, and applicable laws, regulations, and policies considered in making a decision regarding the proposal.

Reviewer's Obligations

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519, 553 [1978]). Also, environmental objections that could be raised at the draft environmental impact statement stage may be waived or dismissed by the courts (City of Angoon v. Hodel, 803, F.2d 1016, 1022 [9th Cir. 1986] and Wisconsin Heritages, Inc. v. Harris, 490 F. Supp. 1334, 1338 [E.D. Wis. 1980]). Because of these court rulings, it is very important that those interested in this proposed action participate by the close of the 30-day comment period so that substantive comments and objections are made available to the Forest Service at a time when it can meaningfully consider and respond to them in the final EIS.

To be most helpful in assisting the Forest Service to identify and consider issues and concerns on the Proposed Action, comments on the draft EIS should be as specific as possible and may address the adequacy of the statement or the merit of the alternatives discussed. Reference to specific pages or chapters of the draft EIS would also be helpful. Reviewers may wish to refer to the Council on Environmental Quality regulations (40 CFR 1503.3) for implementing the procedural provisions of the National Environmental Policy Act.

Responsible Official

As the Forest Supervisor of the Kootenai National Forest, 1101 U.S. Highway 2 West, Libby, MT 59923, I am the Responsible Official. As the Responsible Official I will decide if the proposed project will be implemented. I will document the decision and reasons for the decision in the Record of Decision. I have delegated the responsibility for preparing the EIS to Glen M. McNitt, District Ranger, Rexford Ranger District.

Dated: January 10, 2001.
Greg Kujawa,
Planning, Public Affairs, Recreation and Heritage Staff Officer, Kootenai National Forest.

[FR Doc. 01-1295 Filed 1-16-01; 8:45 am]

BILLING CODE 3410-11-M